DEPARTMENT OF TRANSPORTATION

Federal Aviation Administration

14 CFR Part 39

[Docket No. 2003-NM-47-AD; Amendment 39-13566; AD 2004-07-22]

RIN 2120-AA64

Airworthiness Directives; Boeing Model 747 Series Airplanes

Correction

In rule document 04-7449 beginning on page 18250, in the issue of Wednesday, April 7, 2004 make the following correction:

§ 39.13 [Corrected]

On page 18254, in the third column, in § 39.13, under the heading Initial Inspection, in the first line, paragraph “(a)” should read “(d)”.

[FR Doc. C4-7449 Filed 4-12-04; 8:45 am]

BILLING CODE 1505-01-D